DEPARTMENT OF ENERGY

10 CFR Part 430

[Docket No. EERE-2010-BT-TP-0010]

RIN 1904-AC21

Energy Conservation Program for Consumer Products: Test Procedures for Residential Furnaces Fans; Correction

AGENCY: Office of Energy Efficiency and Renewable Energy, Department of Energy.

ACTION: Final rule; technical correction.

SUMMARY: On January 3, 2014 the U.S. Department of Energy (DOE) published a final rule in the Federal Register that established the test procedure for residential furnace fans. Due to drafting errors, that document inadvertently removed necessary incorporation by reference material in the Code of Federal Regulations (CFR). This final rule rectifies this error by once again adding the removed material.

DATES: Effective Date: July 3, 2014.

The incorporation by reference of a certain standard listed in this rulemaking was approved by the Director of the Office of the Federal Register on October 4, 1993.

FOR FURTHER INFORMATION CONTACT: Mr. Ronald Majette, U.S. Department of Energy, Office of Energy Efficiency and Renewable Energy, Building Technologies Office, EE-5B, 1000 Independence Avenue SW., Washington, DC, 20585-0121. Telephone: (202) 586-7935. Email: residential_furnace_fans@ee.doe.gov.

Mr. Eric Stas, U.S. Department of Energy, Office of the General Counsel, GC-71, 1000 Independence Avenue SW., Washington, DC 20585-0121. Telephone: (202) 586-9507. Email: Eric.Stas@hq.doe.gov.

SUPPLEMENTARY INFORMATION:

I. Background

On January 3, 2014, DOE's Office of Energy Efficiency and Renewable Energy published a test procedure final rule in the Federal Register titled, “Test Procedures for Residential Furnace Fans” (hereafter referred to as the “January 2014 final rule”). 79 FR 500. Since the publication of that final rule, it has come to DOE's attention that, due to a technical oversight, the January 2014 final rule incorrectly deleted the incorporation by reference of ASHRAE 103-1993 within 10 CFR 430.3. The January 2014 final rule removed the existing reference to ASHRAE 103-1993 and inserted a reference to ASHRAE 103-2007; however, DOE intended to maintain the existing reference to ASHRAE 103-1993 (applicable to residential furnaces and boiler) while adding the incorporation by reference to ASHRAE 103-2007 (applicable to residential furnace fans). This final rule corrects this error by once again adding ASHRAE 103-1993 to the list of materials incorporated by reference at 10 CFR 430.3. This final rule also renumbers section 430.3 to account for the additional reference.

II. Need for Correction

As published, the identified provisions in 10 CFR 430.3 (which only reference ASHRAE 103-2007 and do not reference ASHRAE 103-1993) will likely cause confusion and may mislead interested parties regarding how to properly conduct testing under DOE's residential furnaces and boilers test procedure. The January 2014 final rule for furnace fans removed the incorporation by reference of ASHRAE 103-1993. However, the incorporation by reference of ASHRAE 103-1993 into the CFR remains required because that standard is referenced by Appendix N to subpart B of 10 CFR part 430, “Uniform Test Method for Measuring the Energy Consumption of Furnaces and Boilers.” It was clearly not DOE's intention to change or eliminate reference materials for other products as part of the furnace fans rulemaking. At no place in the January 2014 final rule did DOE discuss such modifications. This final rule would simply incorporate once again into the CFR the intended and proper reference materials that were erroneously deleted without making substantive changes to any previously established provisions. Accordingly, DOE finds that there is good cause under 5 U.S.C. 553(b)(B) to not issue a separate notice to solicit public comment on the changes contained in this document. Issuing a separate document to solicit public comment would be impractical, unnecessary, and contrary to the public interest.

III. Procedural Requirements

DOE has concluded that the determinations made pursuant to the various procedural requirements applicable to the January 3, 2014 test procedure final rule for residential furnace fans remain unchanged for this final rule technical correction. These determinations are set forth in the January 3, 2014 final rule. 79 FR 500, 517-520.

List of Subjects in 10 CFR Part 430

Administrative practice and procedure, Confidential business information, Energy conservation, Household appliances, Imports, Incorporation by reference, Intergovernmental relations, Small businesses.

Issued in Washington, DC, on June 27, 2014.
Kathleen B. Hogan,
Deputy Assistant Secretary for Energy Efficiency, Energy Efficiency and Renewable Energy.

For the reasons stated in the preamble, DOE amends part 430 of Chapter II, subchapter D of title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.3 is amended by:

a. Redesignating paragraphs (f)(10) through (f)(11) as (f)(11) through (f)(12); and

b. Adding new paragraph (f)(10).

The addition reads as follows:

§ 430.3 Materials incorporated by reference.

* * * * *

(f) * * *

(10) ASHRAE Standard 103-1993, (“ASHRAE 103-1993”), Methods of Testing for Annual Fuel Utilization Efficiency of Residential Central Furnaces and Boilers, (with Errata of October 24, 1996) except for sections 3.0, 7.2.2.5, 8.6.1.1, 9.1.2.2, 9.5.1.1, 9.5.1.2.1, 9.5.1.2.2, 9.5.2.1, 9.7.1, 10.0, 11.2.12, 11.3.12, 11.4.12, 11.5.12 and appendices B and C, approved October 4, 1993, IBR approved for § 430.23 and appendix N to subpart B.

* * * * *

[FR Doc. 2014-15654 Filed 7-2-14; 8:45 am]

BILLING CODE 6450-01-P